DEPARTMENT OF TRANSPORTATION

Federal Railroad Administration

[Docket No. FRA-2011-0001-N-1]

Proposed Agency Information Collection Activities; Comment Request

AGENCY: Federal Railroad Administration (FRA), Department of Transportation (DOT).

ACTION: Notice and request for comments.

SUMMARY: In accordance with the Paperwork Reduction Act of 1995 and its implementing regulations, the Federal Railroad Administration (FRA) hereby announces that it is seeking renewal of the following currently approved information collection activities. Before submitting these information collection requirements for clearance by the Office of Management and Budget (OMB), FRA is soliciting public comment on specific aspects of the activities identified below.

DATES: Comments must be received no later than March 14, 2011.

ADDRESSES: Submit written comments on any or all of the following proposed activities by mail to either: Mr. Robert Brogan, Office of Safety, Planning and Evaluation Division, RRS-21, Federal Railroad Administration, 1200 New Jersey Avenue, SE., Mail Stop 25, Washington, DC 20590, or Ms. Kimberly Toone, Office of Information Technology, RAD-20, Federal Railroad Administration, 1200 New Jersey Avenue, SE., Mail Stop 35, Washington, DC 20590. Commenters requesting FRA to acknowledge receipt of their respective comments must include a self-addressed stamped postcard stating, “Comments on OMB control number 2130-0566.” Alternatively, comments may be transmitted via facsimile to (202) 493-6216 or (202) 493-6479, or via e-mail to Mr. Brogan at Robert.Brogan@dot.gov, or to Ms. Toone at Kimberly.Toone@dot.gov. Please refer to the assigned OMB control number in any correspondence submitted. FRA will summarize comments received in response to this notice in a subsequent notice and include them in its information collection submission to OMB for approval.

FOR FURTHER INFORMATION CONTACT: Mr. Robert Brogan, Office of Planning and Evaluation Division, RRS-21, Federal Railroad Administration, 1200 New Jersey Avenue, SE., Mail Stop 25, Washington, DC 20590 (telephone: (202) 493-6292) or Ms. Kimberly Toone, Office of Information Technology, RAD-20, Federal Railroad Administration, 1200 New Jersey Avenue, SE., Mail Stop 35, Washington, DC 20590 (telephone: (202) 493-6139). (These telephone numbers are not toll-free.)

SUPPLEMENTARY INFORMATION: The Paperwork Reduction Act of 1995 (PRA), Public Law 104-13, § 2, 109 Stat. 163 (1995) (codified as revised at 44 U.S.C. 3501-3520), and its implementing regulations, 5 CFR Part 1320, require Federal agencies to provide 60 days notice to the public for comment on information collection activities before seeking approval for reinstatement or renewal by OMB. 44 U.S.C. 3506(c)(2)(A); 5 CFR 1320.8(d)(1), 1320.10(e)(1), 1320.12(a). Specifically, FRA invites interested respondents to comment on the following summary of proposed information collection activities regarding (i) whether the information collection activities are necessary for FRA to properly execute its functions, including whether the activities will have practical utility; (ii) the accuracy of FRA's estimates of the burden of the information collection activities, including the validity of the methodology and assumptions used to determine the estimates; (iii) ways for FRA to enhance the quality, utility, and clarity of the information being collected; and (iv) ways for FRA to minimize the burden of information collection activities on the public by automated, electronic, mechanical, or other technological collection techniques or other forms of information technology (e.g., permitting electronic submission of responses). See 44 U.S.C. 3506(c)(2)(A)(i)-(iv); 5 CFR 1320.8(d)(1)(I)-(iv). FRA believes that soliciting public comment will promote its efforts to reduce the administrative and paperwork burdens associated with the collection of information mandated by Federal regulations. In summary, FRA reasons that comments received will advance three objectives: (i) Reduce reporting burdens; (ii) ensure that it organizes information collection requirements in a “user friendly” format to improve the use of such information; and (iii) accurately assess the resources expended to retrieve and produce information requested. See 44 U.S.C. 3501.

Below are brief summaries of eight currently approved information collection activities that FRA will submit for clearance by OMB as required under the PRA:

Title: Reflectorization of Freight Rolling Stock.

OMB Control Number: 2130-0566.

Abstract: The Federal Railroad Administration (FRA) issued this regulation to mandate the reflectorization of freight rolling stock (freight cars and locomotives) to enhance the visibility of trains in order to reduce the number and severity of accidents at highway-rail grade crossings in which train visibility acted as a contributing factor. The information collected is used by FRA to ensure that railroads/car owners follow the schedule established by the regulation for placing retro-reflective material on the sides of freight rolling stock (freight cars and locomotives) in order to improve the visibility of trains. The information is also used by FRA to confirm that railroads/car owners meet the prescribed standards for the application, inspection, and maintenance of the required retro-reflective material.

Type of Request: Extension of a currently approved collection.

Affected Public: Businesses.

Respondent Universe: 685 Railroads.

Form Number(s): FRA F 6180.113.

Reporting Burden
CFR section | Respondent universe | Total annual responses | Average time per response | Total annual burden hours
224.7—Waivers | 685 Railroads/car owners | 10 petitions | 1 hour | 20 hours.
224.15—Special approval procedures—Petitions | 3 Manufacturers | 60 petitions | 40 hours | 2,400 hours.
—Public comment | 3 Manufacturers/railroads | 5 comments | 1 hour | 5 hours.
224.107—Implementation Schedule: Freight cars | 685 Railroads/car owners | 400 reports/forms | 15 minutes | 100 hours.
—Existing freight cars w/o retroreflective sheeting | 685 Railroads/car owners | 400 reports/forms | 20 minutes | 8,000 hours.
—Updated reflectorization implementation plans | 685 Railroads/car owners | 5 Failure Reports | 2 hours | 10 hours.
—Failure reports | 685 Railroads/car owners | 172 reports//forms | 20 hours | 3,440 hours.
II. Existing Cars with retroreflective sheeting (b). Locomotives | 685 Railroads/car owners | 35 reports/forms | 15 minutes | 9 hours.
—Existing locomotives w/o retroreflective sheeting | 685 Railroads/car owners | 35 reports/forms | 3 hours | 105 hours.
—Updated reflectorization implementation plans | 685 Railroads/car owners | 1 Failure Report | 2 hours | 2 hours.
—Failure reports | 685 Railroads/car owners | 617 reports/forms | 4 hours | 2,468 hours.
II. Existing locomotives with retroreflective sheeting
224.109—Inspection, repair, replacement—fr. cars | AAR + 300 car shops | 240,000 Notificat | 10 minutes | 40,000 hours.
—Locomotives: records of restriction | 22,800 Locomotives | 4,560 records | 3 minutes | 228 hours.

Total Responses: 246,300.

Estimated Total Annual Burden: 56,787 hours.

Status: Regular Review.

Pursuant to 44 U.S.C. 3507(a) and 5 CFR 1320.5(b), 1320.8(b)(3)(vi), FRA informs all interested parties that it may not conduct or sponsor, and a respondent is not required to respond to, a collection of information unless it displays a currently valid OMB control number.

Authority: 44 U.S.C. 3501-3520.

Issued in Washington, DC, on January 7, 2011.
Kimberly Coronel,
Director, Office of Financial Management, Federal Railroad Administration.

[FR Doc. 2011-570 Filed 1-12-11; 8:45 am]

BILLING CODE 4910-06-P